DEPARTMENT OF VETERANS AFFAIRS

[OMB Control No. 2900-0051]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments on the information needed to accurately reimburse State Approving Agencies (SAA) for expenses incurred in the approval and supervision of education and training programs.

DATES: Written comments and recommendations on the proposed collection of information should be received on or before August 21, 2000.

ADDRESSES: Submit written comments on the collection of information to Nancy J. Kessinger, Veterans Benefits Administration (20S52), Department of Veterans Affairs, 810 Vermont Avenue, NW, Washington, DC 20420. Please refer to “OMB Control No. 2900-0051” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Quarterly Report of State Approving Agency Activities, VA Form 22-7398.

OMB Control Number: 2900-0051.

Type of Review: Extension of a currently approved collection.

Abstract: VA has the authority to reimburse SAAs for necessary salary, and fringe and travel expenses incurred in the approval and supervision of education and training programs. VA makes the reimbursement retrospectively on a monthly or quarterly basis after receiving an itemized invoice from SAA supported by visit reports and program documents. VA Form 22-7398 serves as the form for SAAs to request reimbursement. The information is used to ensure that the reimbursements are proper and accurate. Without the report, VA would have no means to compare the efficiency and effectiveness of SAAs.

Affected Public: State, Local or Tribal Governments.

Estimated Annual Burden: 228 hours.

Estimated Average Burden Per Respondent: 60 minutes.

Frequency of Response: Quarterly.

Estimate Annual Reponses: 228.

Estimated Number of Respondents: 57.

Dated: June 2, 2000.
By direction of the Secretary.
Donald L. Neilson,
Director, Information Management Service.

[FR Doc. 00-15451 Filed 6-19-00; 8:45 am]

BILLING CODE 8320-01-P